DEPARTMENT OF TRANSPORTATION

Surface Transportation Board

Release of Waybill Data

The Surface Transportation Board has received a request from RSI Logistics, Inc. (WB604-12—3/5/14) for permission to use certain data from the Board's 2012 Carload Waybill Sample. A copy of this request may be obtained from the Office of Economics.

The waybill sample contains confidential railroad and shipper data; therefore, if any parties object to these requests, they should file their objections with the Director of the Board's Office of Economics within 14 calendar days of the date of this notice. The rules for release of waybill data are codified at 49 CFR 1244.9.

Contact: Scott Decker, (202) 245-0348.

Jeffrey Herzig,
Clearance Clerk.

[FR Doc. 2014-07258 Filed 3-31-14; 8:45 am]

BILLING CODE 4915-01-P